DEPARTMENT OF COMMERCE

National Oceanic and Atmospheric Administration

RIN 0648-XU97

New England Fishery Management Council; Public Meetings

AGENCY: National Marine Fisheries Service (NMFS), National Oceanic and Atmospheric Administration (NOAA), Commerce.

ACTION: Notice of public meetings.

SUMMARY: The New England Fishery Management Council (Council) is scheduling public meetings of its Monkfish Advisory Panel and its Monkfish Committee on March 24, 2010 and March 25, 2010 to consider actions affecting New England fisheries in the exclusive economic zone (EEZ). Recommendations from these groups will be brought to the full Council for formal consideration and action, if appropriate.

DATES: This Advisory Panel meeting will be held on Wednesday, March 24, 2010 at 9 a.m. and the Committee meeting will be held on Thursday, March 25, 2010 at 9 a.m.

ADDRESSES: These meetings will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Monkfish Advisory Panel and the Committee will review public comments and finalize their recommendations to the New England and Mid-Atlantic Councils for final measures to be adopted in Amendment 5, including but not limited to: biological and management reference points; specifications of catch target and management measures to achieve the targets (days-at sea, trip limits and other measures); and other modifications to the management measures currently in the plan. The committee will consider Advisory Panel recommendations in finalizing its recommendations to the New England and Mid-Atlantic Councils at their respective April meetings.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: March 4, 2010.
William D. Chappell,
Acting Director, Office of Sustainable Fisheries, National Marine Fisheries Service.

[FR Doc. 2010-5054 Filed 3-9-10; 8:45 am]

BILLING CODE 3510-22-S